ENVIRONMENTAL PROTECTION AGENCY

40 CFR Part 52

[R05-OAR-2009-0731; FRL-9157-9

Approval and Promulgation of Air Quality Implementation Plans; Wisconsin; Particulate Matter Standards; Withdrawal of Direct Final Rule

AGENCY: Environmental Protection Agency (EPA).

ACTION: Withdrawal of direct final rule.

SUMMARY: Due to the receipt of an adverse comment, EPA is withdrawing the April 8, 2010 (75 FR 17865), direct final rule approving Wisconsin's update to its state ambient air quality standards. The updates were made to the particulate matter standards by adding fine particulate standards and revoking the state's course particulate standards. The State of Wisconsin submitted this revision as a modification to the State Implementation Plan on September 11, 2009. In the direct final rule, EPA stated that if adverse comments were submitted by May 10, 2010, the rule would be withdrawn and not take effect. On May 7, 2010, EPA received a comment. EPA believes this comment is adverse and, therefore, EPA is withdrawing the direct final rule. EPA will address the comment in a subsequent final action based upon the proposed action also published on April 8, 2010 (75 FR 17894). EPA will not institute a second comment period on this action.

DATES: The direct final rule published at 75 FR 17865 on April 8, 2010, is withdrawn as of June 2, 2010.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

List of Subjects in 40 CFR Part 52

Environmental protection, Air pollution control, Incorporation by reference, Intergovernmental relations, Particulate matter.

Authority: 42 U.S.C. 7401 et seq.

Dated: May 14, 2010.
Walter W. Kovalick,
Acting Regional Administrator, Region 5.

PART 52—[AMENDED]

Accordingly, the amendment to 40 CFR 52.2570 published in the Federal Register on April 8, 2010 (75 FR 17865) on pages 17867-17868 is withdrawn as of June 2, 2010.

[FR Doc. 2010-13175 Filed 6-1-10; 8:45 am]

BILLING CODE 6560-50-P